DEPARTMENT OF ENERGY

Energy Information Administration

Agency Information Collection Extension

AGENCY: U.S. Energy Information Administration (EIA), U.S. Department of Energy (DOE).

ACTION: Notice and request for comments.

SUMMARY: DOE submitted an information collection request for extension as required by the Paperwork Reduction Act of 1995. The information collection requests a three-year extension of DOE's Form FE-746R, Import and Export of Natural Gas under OMB Control Number 1901-0294. Form FE-746R collects information from import and export authorization holders that enables DOE's Office of Fossil Energy (FE) to monitor natural gas trade under the United States Mexico Canada Agreement (USMCA) and other trade activity falling outside the parameters of USMCA, and supports various market and regulatory analyses done by FE.

DATES: Comments on this information collection must be received no later than July 6, 2020. Written comments and recommendations for the proposed information collection should be sent within 30 days of publication of this notice to https://www.reginfo.gov/public/do/PRAMain. Find this particular information collection by selecting “Currently under 30-day Review—Open for Public Comments” or by using the search function. Send a copy of your comment to DOE by email to: marc.talbert@hq.doe.gov.

FOR FURTHER INFORMATION CONTACT: Request for additional information or copies of the forms and instructions should be directed to Mr. Marc Talbert at (202) 586-7991, or by email marc.talbert@hq.doe.gov. The forms are available online at https://www.energy.gov/fe/articles/changes-fe-746-data-collection. Additional information is available at https://www.energy.gov/fe/services/natural-gas-regulation.

SUPPLEMENTARY INFORMATION: This information collection request contains:

(1) OMB No.: 1901-0294;

(2) Information Collection Request Title: Natural Gas Import and Export Data Submissions;

(3) Type of Request: Three-year extension with changes;

(4) Purpose: DOE's Office of Fossil Energy (FE) has the delegated authority to regulate natural gas imports and exports under section 3 of the Natural Gas Act of 1938, 15 U.S.C. 717b. To carry out its delegated responsibility, FE requires individuals seeking to import or export natural gas to file an application providing basic information on the scope and nature of the import/export activity. Once an importer or exporter receives authorization from FE, they are required to submit monthly reports of their natural gas import and export transactions on Form FE-746R. In addition, a subset of authorization holders—including those that hold long-term import authorizations from any source, long-term export authorizations to both countries that do and do not have a free trade agreement with the United States requiring national treatment of natural gas and with which trade is not prohibited by U.S. law or policy (FTA and non-FTA countries), and short-term authorizations to export to non-FTA countries—must file additional information beyond the required filings on FE-746R. This additional information, including supply and delivery contracts, changes in control or ownership, and semi-annual reports that provide information on the status of the relevant proposed or existing LNG export facilities, provides input DOE needs to assess both the state of the U.S. import and export markets and the adequacy of energy resources to meet near and long term domestic demands. This information also assists FE in determining whether authorization holders are complying with the terms and conditions of their authorization.

Together with the data reported on FE-746R and the additional information required for certain types of authorization holders outlined above, DOE is able to perform market and regulatory analyses to improve the capability of industry and the government to respond to any future energy-related supply problems, and to keep the general public informed on international natural gas trade.

(4a) Proposed Changes to Information Collection: FE seeks to include supplementary data reporting items under OMB Control Number 1901-0294. FE proposes to collect this additional information from both long-term import and export authorization holders that have authority to import or export to both FTA and non-FTA countries, and short-term authorization holders that have authority to export non-FTA countries. The additional information FE seeks to collect from this subset of natural gas import and export authorization holders includes: Long-term contracts associated with the supply and sales of natural gas, including compressed natural gas, liquefied natural gas, and associated products; changes in control of authorization holders; registrations of agents who import and export natural gas; and, for long-term LNG export authorization holders, semi-annual reports providing information on the status of the relevant proposed or existing LNG export facility, and the date the proposed LNG facility is expected to commence first exports of LNG (where applicable).

(5) Annual Estimated Number of Respondents: 396 respondents.

(6) Annual Estimated Number of Total Responses: 4,752.

(7) Annual Estimated Number of Burden Hours: 14,256 hours.

(8) Annual Estimated Reporting and Recordkeeping Cost Burden: $1,142,476 (14,256 annual burden hours multiplied by $80.14 per hour); FE estimates that respondents will have no additional costs associated with the data proposed for collection other than burden hours.

Statutory Authority: 15 U.S.C. 772(b) and Section 3 of the Natural Gas Act of 1938, codified at 15 U.S.C. 717b.

Signing Authority

This document of the Department of Energy was signed on May 29, 2020, by Shawn Bennett, Deputy Assistant Secretary, Office of Oil and Natural Gas, Office of Fossil Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on May 29, 2020.
Treena V. Garrett,
Federal Register Liaison Officer, U.S. Department of Energy.

[FR Doc. 2020-11973 Filed 6-2-20; 8:45 am]

BILLING CODE 6450-01-P